DEPARTMENT OF THE INTERIOR

Bureau of Land Management

[L58820000 PH0000 LXRSEE990000 HAG10-0235]

Notice of Public Meetings for the Eugene District, Resource Advisory Committee

AGENCY: Bureau of Land Management, Interior.

ACTION: Notice of public meetings.

SUMMARY: In accordance with the Emergency Economic Stabilization Act of 2008, Title VI, Secure Schools and Community Self-Determination Program (H.R. 1424), the Federal Land Policy and Management Act, and the Federal Advisory Committee Act of 1972, the U.S. Department of the Interior, Bureau of Land Management, Eugene District Resource Advisory Committee will meet as indicated below.

DATES: The meeting will begin at 8:30 a.m. (Pacific Daylight Time) on June 10, 2010, and will end at approximately 4:30 p.m. (Pacific Daylight Time). If unfinished business necessitates, the meeting will resume on June 11, 2010, at 8:30 a.m. (Pacific Daylight Time) and will end when business is completed.

ADDRESSES: The Eugene District Resource Advisory Committee will meet at the Bureau of Land Management, Eugene District Office, Springfield Interagency Center, 3106 Pierce Parkway, Suite E, Springfield, Oregon 97477.

FOR FURTHER INFORMATION CONTACT: Patricia K. Johnston, Bureau of Land Management, P.O. Box 10226, Eugene, Oregon 97440-2226, (541) 683-6181 or pat_johnston@blm.gov.

SUPPLEMENTARY INFORMATION: The Eugene District Resource Advisory Committee was appointed originally by the Secretary of the Interior pursuant to the Secure Rural Schools and Community Self-Determination Act of 2000 (Pub. L. 106-393) and re-authorized by the Emergency Economic Stabilization Act of 2008, Title VI, Secure Schools and Community Self-Determination Program (H.R. 1424).

Topics to be discussed by the Eugene District Resource Advisory Committee at these meetings include reviewing project proposals meeting the requirements under Section 201, H.R. 1424, “Title II—Special Projects on Federal Land,” recommending funding for such projects to the Secretary of the Interior, and other matters as may reasonably come before the council.

All meetings are open to the public in their entirety. Public comment is generally scheduled from 11:30 a.m. to 12 p.m., each meeting session. The amount of time scheduled for public presentations and meeting times may be extended when the authorized representative considers it necessary to accommodate all who seek to be heard regarding matters on the agenda.

Virginia Grilley,
District Manager, BLM Eugene District Office.

[FR Doc. 2010-9950 Filed 4-28-10; 8:45 am]

BILLING CODE 4310-33-P